DEPARTMENT OF ENERGY

Federal Energy Regulatory Commission

[Docket No. CP25-514-000, Docket No. CP25-517-000]

Tennessee Gas Pipeline Company, LLC, Southern Natural Gas Company, LLC, Elba Express Company, LLC; Notice of Intent To Prepare an Environmental Impact Statement for the Proposed Mississippi Crossing Project and South System Expansion 4 Project Request for Comments on Environmental Issues, and Schedule for Environmental Review

The staff of the Federal Energy Regulatory Commission (FERC or Commission) will prepare an environmental impact statement (EIS) that will discuss the environmental impacts of the Mississippi Crossing Project (MSX Project) involving construction and operation of facilities by Tennessee Gas Pipeline Company, LLC (TGP) in Washington, Sunflower, Humphreys, Holmes, Attala, Leake, Neshoba, Newton, Lauderdale, and Clarke counties, Mississippi; and Choctaw County, Alabama. The environmental document will also discuss the environmental impacts of the South System Expansion 4 Project (SSE4 Project) involving construction and operation of facilities by Southern Natural Gas Company, LLC (SNG) and Elba Express Company, LLC (EEC), collectively called SNG/EEC, in Lauderdale and Clarke counties, Mississippi; Sumter, Marengo, Hale, Perry, Dallas, Autauga, Elmore, Tallapoosa, Macon, and Lee counties, Alabama; and Harris, Talbot, Upson, Crawford, Monroe, Bibb, Jones, Baldwin, Glascock, Jefferson, Richmond, Burke, Screven, Henry, Spalding, Effingham, Lowndes, Clayton and Chatham counties, Georgia.¹ The Commission will use this EIS in its decision-making process to determine whether the Projects are in the public convenience and necessity. The schedule for preparation of the EIS is discussed in the Schedule for Environmental Review section of this notice.

¹ For tracking purposes under the National Environmental Policy Act, the unique identification number for documents relating to this environmental review is EISX-019-20-000-1751972052.

As part of the National Environmental Policy Act (NEPA) review process, the Commission takes into account concerns the public may have about proposals and the environmental impacts that could result whenever it considers the issuance of a Certificate of Public Convenience and Necessity. This gathering of public input is referred to as “scoping.” By notice issued on March 3, 2025 in Docket Nos. PF25-1-000 and PF25-2-000, the Commission opened a scoping period during the TGP, SNG, and EEC planning process for the Projects and prior to filing formal applications with the Commission, a process referred to as “pre-filing.” TGP and SNG/EEC have now filed applications with the Commission, and staff intends to prepare an EIS that will address the concerns raised during the pre-filing scoping process and comments received in response to this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC, on or before 5:00 p.m. Eastern Time on October 6, 2025. Comments may be submitted in written form. Further details on how to submit comments are provided in the Public Participation section of this notice.

As mentioned above, during the pre-filing process, the Commission opened a scoping period which expired on April 7, 2025; however, Commission staff continued to accept comments during the entire pre-filing process. Staff also held 11 scoping sessions to take oral scoping comments, detailed below:

• 3/24/2025—Decatur, MS;

• 3/25/2025—Butler, AL;

• 3/26/2025—Selma, AL;

• 3/27/2025—Tuskegee, AL;

• 3/31/2025—Hamilton, GA, Belzoni, MS;

• 4/1/2025—Macon, GA, Kosciusko, MS;

• 4/2/2025—Sandersville, GA, Meridian, MS;

• 4/3/2025—Griffin, GA.

All substantive written and oral comments provided during pre-filing will be addressed in the EIS. Therefore, if you submitted comments on these Projects to the Commission during the pre-filing process in Docket Nos. PF25-1-000 or PF25-2-000 you do not need to file those comments again.

If you are a landowner receiving this notice, a pipeline company representative may contact you about the acquisition of an easement to construct, operate, and maintain the proposed facilities. The company would seek to negotiate a mutually acceptable easement agreement. You are not required to enter into an agreement. However, if the Commission approves the Projects, the Natural Gas Act (NGA) conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

TGP and SNG/EEC provided landowners with a fact sheet prepared by the FERC entitled “An Interstate Natural Gas Facility On My Land? What Do I Need To Know?” which addresses typically asked questions, including the use of eminent domain and how to participate in the Commission's proceedings. This fact sheet along with other landowner topics of interest are available for viewing on the FERC website (www.ferc.gov) under the Natural Gas, Landowner Topics link.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the respective project docket number (CP25-514-000 or CP25-517-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Additionally, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Summary of the Proposed Projects, the Projects Purpose and Need, and Expected Impacts

The Projects would consist of the following facilities:

MSX Project

TGP, proposes to: (1) construct approximately 199 miles of 36- and 42-inch-diameter pipeline from an interconnection with TGP's 100 Line in Washington County, Mississippi to a point in Choctaw County, Alabama (MSX Pipeline); (2) construct approximately seven miles of 36-inch-diameter pipeline lateral from Humphreys County, Mississippi to a point in Sunflower County, Mississippi (CGT Lateral); (3) construct approximately two miles of 30- and 36-inch-diameter pipeline laterals located in Attala and Lauderdale Counties, Mississippi and Choctaw County, Alabama; (4) construct three new gas-fired compressor stations located along the MSX Pipeline in Humphreys, Attala, and Lauderdale Counties, Mississippi and modify one existing compressor station in Washington County, Mississippi; (5) construct four new meter stations; and (6) construct three new overpressure protection facilities at interconnections with the existing TGP system in Washington, Humphreys, and Lauderdale Counties, Mississippi. The MSX Project is designed to provide 2.1 billion cubic feet per day (Bcf/d) of incremental firm transportation capacity to the southeast region to meet the growing demand for supply from multiple, diverse, and liquid supply basins to markets in the southeast region.

SSE4 Project

SNG/EEC proposes to: (1) construct 14 new continuous natural gas pipeline loops totaling approximately 291 miles, primarily along its existing South Main Line in Mississippi, Alabama, and Georgia; (2) install new compression and/or perform horsepower expansions at 12 existing compressor stations across Mississippi, Alabama, and Georgia; (3) abandon nine existing compressor units at 4 compressor stations, replacing them with more efficient units at the same sites; (4) abandon approximately 2.2 miles of the 16-inch-diameter K Gen Lateral in-place and by removal in Clarke County, Mississippi; and (5) construct one new meter station in Clarke County, Mississippi, and one new meter station in Monroe County, Georgia, and modify nine existing meter stations in Alabama and Georgia. The SSE4 Project is designed to provide 1.323 Bcf/d of incremental firm transportation capacity to the southeast region. According to SNG/EEC, the Project purpose is to meet the increasing market demand of residential, commercial, and industrial customers and new electric generation fueled by natural gas in the southeast.

The general location of the Project facilities is shown in appendix 1.²

² The appendices referenced in this notice will not appear in the Federal Register. Copies of the appendices were sent to all those receiving this notice in the mail and are available at www.ferc.gov using the link called “eLibrary”. For instructions on connecting to eLibrary, refer to the last page of this notice. For assistance, contact FERC at FERCOnlineSupport@ferc.gov or call toll free, (886) 208-3676 or TTY (202) 502-8659.

Based on the environmental information provided by TGP and SNG/EEC, construction of the proposed facilities would disturb about 2,900 acres of land for the aboveground facilities and the pipeline for the MSX Project, and about 6,865 acres of land for the SSE4 Project. Following construction, TGP would maintain about 1,460 acres for operation of the MSX Project facilities and SNG/EEC would maintain about 1,465 acres for operation of the SSE4 Project facilities; the remaining acreage would be restored and revert to former uses. About 28 percent and about 92 percent of the proposed pipeline route for MSX Project and SSE4 Project, respectively, parallels existing pipeline, utility, or road rights-of-way.

Based on an initial review of TGP's and SNG/ECC's proposal and public comments received during the pre-filing process, Commission staff have identified several expected impacts that deserve attention in the EIS. The MSX Project would impact approximately 146.4 acres of wetland during construction and approximately 73.7 acres during operation, and traverse approximately 1,000 waterbodies including perennial, intermittent, and ephemeral segments. The MSX Project also crosses one river designated by the National Park Service (NPS) as a National Rivers Inventory (NRI) segment: the Big Black River in Mississippi. The MSX Project would also cross the NPS managed Natchez Trace Parkway and Natchez Trace National Scenic Trail. The SSE4 Project would impact approximately 223.8 acres of wetlands during construction and approximately 48.6 acres during operation, and traverse over 1,000 waterbodies. The SSE4 Project also crosses three rivers designated by the NPS as NRI segments: the Flint and Oconee Rivers in Georgia; and the Tallapoosa River in Alabama.

The NEPA Process and the EIS

The EIS issued by the Commission will discuss impacts that could occur as a result of the construction and operation of the proposed Project under the relevant general resource areas:

• geology and soils;

• water resources and wetlands;

• vegetation and wildlife;

• threatened and endangered species;

• cultural resources;

• land use;

• socioeconomics;

• air quality and noise; and

• reliability and safety.

Commission staff will also make recommendations on how to lessen or avoid impacts on the various resource areas. Your comments will help Commission staff focus its analysis on the issues that may have a significant effect on the human environment.

The EIS will present Commission staff's independent analysis of the issues. Alabama Department of Conservation Natural Resources; Georgia Department of Natural Resources; Mississippi Department of Wildlife, Fisheries, and Parks; U.S. Environmental Protection Agency; NPS; U.S. Army Corps of Engineers—Mobile, Vicksburg, and Savannah Districts; and U.S. Fish and Wildlife Service—Daphne, Georgia, and Mississippi field offices are cooperating agencies in the preparation of the EIS.³ Staff will prepare a draft EIS which will be issued for public comment. Commission staff will consider all timely comments received during the comment period on the draft EIS and revise the document, as necessary, before issuing a final EIS. Any draft and final EIS will be available in electronic format in the public record through eLibrary ⁴ and the Commission's natural gas environmental documents web page (https://www.ferc.gov/industries-data/natural-gas/environment/environmental-documents). If eSubscribed, you will receive instant email notification when the environmental document is issued.

³ Cooperating agency responsibilities are addressed in Section 107(a)(3) of NEPA (42 U.S.C. 4336(a)(3)).

⁴ For instructions on connecting to eLibrary, refer to the last page of this notice.

Alternatives Under Consideration

The EIS will evaluate reasonable alternatives that are technically and economically feasible and meet the purpose and need for the proposed actions. Alternatives currently under consideration for MSX Project and SSE4 Project include:

• the no-action alternative, meaning the Projects are not implemented;

• pipeline system alternatives;

• pipeline route alternatives; and

• aboveground facility site alternatives.

With this notice, the Commission requests specific comments regarding any additional potential alternatives to the proposed action or segments of the proposed action. Please focus your comments on reasonable alternatives (including alternative facility sites and pipeline routes) that meet the Projects objectives, are technically and economically feasible, and avoid or lessen environmental impact.

Consultation Under Section 106 of the National Historic Preservation Act

In accordance with the Advisory Council on Historic Preservation's implementing regulations for section 106 of the National Historic Preservation Act, the Commission initiated section 106 consultation for the Projects in the notice issued on March 3, 2025 with the applicable State Historic Preservation Offices, and other government agencies, interested Indian tribes, and the public to solicit their views and concerns regarding the Project's potential effects on historic properties.⁵ This notice is a continuation of section 106. The EIS will document findings on the impacts on historic properties and summarize the status of consultations under section 106.

⁵ The Advisory Council on Historic Preservation's regulations are at Title 36, Code of Federal Regulations, Part 800. Those regulations define historic properties as any prehistoric or historic district, site, building, structure, or object included in or eligible for inclusion in the National Register of Historic Places.

Schedule for Environmental Review

On July 15, 2025, the Commission issued its Notice of Application for the Projects. Among other things, that notice alerted other agencies issuing federal authorizations of the requirement to complete all necessary reviews and to reach a final decision on the request for a federal authorization within 90 days of the date of issuance of the Commission staff's final EIS for the Projects. This notice identifies the Commission staff's planned schedule for completion of the final EIS for the Projects, which is based on an issuance of the draft EIS in January 2026, opening a 45-day comment period.

Issuance of Notice of Availability of the final EIS—June 26, 2026

90-day Federal Authorization Decision Deadline ⁶—September 24, 2026

⁶ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the final EIS, an additional notice will be provided so that the relevant agencies are kept informed of the Project's progress.

Permits and Authorizations

The table below lists the anticipated permits and authorizations for the Projects required under federal law. This list may not be all-inclusive and does not preclude any permit or authorization if it is not listed here. Agencies with jurisdiction by law and/or special expertise may formally cooperate in the preparation of the Commission's EIS and may adopt the EIS to satisfy its NEPA responsibilities related to these Projects. Agencies that would like to request cooperating agency status should follow the instructions for filing comments provided under the Public Participation section of this notice.

Federal and Federally Delegated Permits
Agency | Permit
Mississippi Crossing (MSX) Project
Federal Energy Regulatory Commission | Section 7(c) of the NGA.
United States Environmental Protection Agency (USEPA) Region 4 | Compliance with Sections 401, 402, and 404 of the Clean Water Act (CWA).
U.S. Army Corps of Engineers (USACE)—Mobile District | Section 404 CWA.
USACE—Vicksburg District | Section 404 CWA, Section 10 Rivers and Harbors Act Permit, Section 408.
United States Fish and Wildlife Service (USFWS), Daphne Ecological Services Field Offices | Consultation under Endangered Species Act, Bald and Golden Eagle Protection Act, and Migratory Bird Treaty Act (MBTA).
USFWS, Mississippi Ecological Services Field Offices | Consultation under Endangered Species Act, Bald and Golden Eagle Protection Act, and MBTA.
National Park Service (NPS), Region 2 South Atlantic Gulf | Consultation under Wild and Scenic River Act for Crossing of Nationwide Rivers Inventory (NRI) Segment (Big Black River). Consultation for crossing the Natchez Trace Parkway and the Natchez Trace National Scenic Trail.
South System Expansion 4 (SSE4) Project
FERC | Sections 7(c) and 7(b) of the NGA.
USEPA Region 4 | Compliance with Sections 401, 402, and 404 of the CWA.
USACE—Savannah District | Section 404 CWA/Section 10 Rivers and Harbors Act Permit. Section 408 Authorization.
USFWS, Athens, Daphne, and Mississippi Ecological Services Field Offices | Consultation under Endangered Species Act, Bald and Golden Eagle Protection Act, and MBTA.
NPS Southeast Region 2 | Consultation under Wild and Scenic River Act for Crossing of Nationwide Rivers Inventory Segment (Flint River, Oconee River, and Tallapoosa River).

Environmental Mailing List

This notice is being sent to the Commission's current environmental mailing list for the Projects which includes federal, state, and local government representatives and agencies; elected officials; environmental and public interest groups; Native American Tribes; other interested parties; and local libraries and newspapers. This list also includes all affected landowners (as defined in the Commission's regulations) who are potential right-of-way grantors, whose property may be used temporarily for Projects purposes, or who own homes within certain distances of aboveground facilities, and anyone who submits comments on the Projects and includes a mailing address with their comments. Commission staff will update the environmental mailing list as the analysis proceeds to ensure that Commission notices related to this environmental review are sent to all individuals, organizations, and government entities interested in and/or potentially affected by the proposed Projects. State and local government representatives should notify their constituents of these proposed Projects and encourage them to comment on their areas of concern.

If you need to make changes to your name/address, or if you would like to remove your name from the mailing list, please complete one of the following steps:

(1) Send an email to GasProjectAddressChange@ferc.gov stating your request. You must include the docket number CP25-514-000 or CP25-517-000 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Projects is available from the Commission's Office of External Affairs, at (866) 208-FERC, or on the FERC website at www.ferc.gov using the eLibrary link. Click on the eLibrary link, click on “General Search” and enter the docket number in the “Docket Number” field, excluding the last three digits (i.e., CP25-514 or CP25-517). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: September 5, 2025.
Debbie-Anne A. Reese,
Secretary.

[FR Doc. 2025-17407 Filed 9-9-25; 8:45 am]

BILLING CODE 6717-01-P